DEPARTMENT OF THE INTERIOR

National Park Service

[NPS-WASO-NAGPRA-NPS0037204; PPWOCRADN0-PCU00RP14.R50000]

Notice of Inventory Completion: California State University, Chico, Chico, CA

AGENCY: National Park Service, Interior.

ACTION: Notice.

SUMMARY: In accordance with the Native American Graves Protection and Repatriation Act (NAGPRA), the California State University, Chico (CSU Chico) has completed an inventory of human remains and associated funerary objects and has determined that there is a cultural affiliation between the human remains and associated funerary objects and Indian Tribes or Native Hawaiian organizations in this notice. The human remains and associated funerary objects were removed from CSU Chico.

DATES: Repatriation of the human remains and associated funerary objects in this notice may occur on or after February 7, 2024.

ADDRESSES: Dawn Rewolinski, California State University, Chico, 400 W 1st Street, Chico, CA 95929, telephone (530) 898-3090, email drewolinski@csuchico.edu.

SUPPLEMENTARY INFORMATION: This notice is published as part of the National Park Service's administrative responsibilities under NAGPRA. The determinations in this notice are the sole responsibility of CSU Chico. The National Park Service is not responsible for the determinations in this notice. Additional information on the determinations in this notice, including the results of consultation, can be found in the inventory or related records held by CSU Chico.

Description

The Finch Site (CA-BUT-12) in Butte County, CA, was first recorded by A. Pilling in 1949 and later in 1963 by Dorothy Hill. Francis Riddell led a Chico State College (now CSU, Chico) field class excavation at the site in the summer of 1963, and Professor Keith Johnson, accompanied by Riddell, led a second excavation at the site with a Chico State College field class in spring, 1964. Joseph Chartkoff (then of UCLA) led an excavation at the site in summer, 1967. In spring, 1983, and spring, 1984, Professor Makoto Kowta led CSU, Chico field class excavations at the site. Our records indicated the site was archeologically recovered as a joint project between UCLA and CSU Chico. CSU Chico contacted UCLA to determine if they held any additional human remains and cultural items from the 1967 archeological recovery. UCLA determined they did have cultural items from CA-BUT-12 and transferred legal and physical control of the additional cultural items to CSU Chico on October 23, 2023. Human remains were also identified in the rehousing process of the additional cultural items at CSU Chico.

Human remains representing, at minimum, two individuals were removed from Butte County, CA. The 6,735 associated funerary objects were a part of the original excavations and collection, which UCLA transferred to CSU Chico to be reinterred with the ancestors and cultural items of Accession 4, Finch Site (CA-BUT-12) listed in the Notice of Inventory Completion published in the Federal Register on June 29, 2023 (88 FR 42099-42101). The additional 6,735 associated funerary objects are 47 lots of organics, 1,914 lots of debitage, 426 lots of modified stone, 123 lots of projectile points, 218 lots of unmodified shell, 500 lots of modified shell, 53 lots of charcoal, 325 lots of soil, 2,866 lots of faunal elements, 261 lots of modified faunal elements, one lot of modified clay, and one lot of ochre.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: anthropological information, archeological information, oral tradition, and expert opinion in the form of tribal traditional knowledge.

Determinations

Pursuant to NAGPRA and its implementing regulations, and after consultation with the appropriate Indian Tribes and Native Hawaiian organizations, CSU Chico has determined that:

• The human remains described in this notice represent the physical remains of two individuals of Native American ancestry.

• The 6,735 objects described in this notice are reasonably believed to have been placed with or near individual human remains at the time of death or later as part of the death rite or ceremony.

• There is a relationship of shared group identity that can be reasonably traced between the human remains and associated funerary objects described in this notice and the Mechoopda Indian Tribe of Chico Rancheria, California.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after February 7, 2024. If competing requests for repatriation are received, CSU Chico must determine the most appropriate requestor prior to repatriation. Requests for joint repatriation of the human remains and associated funerary objects are considered a single request and not competing requests. CSU Chico is responsible for sending a copy of this notice to the Indian Tribes and Native Hawaiian organizations identified in this notice.

Authority: Native American Graves Protection and Repatriation Act, 25 U.S.C. 3003, and the implementing regulations, 43 CFR 10.9, 10.10, and 10.14.

Dated: December 28, 2023.
Melanie O'Brien,
Manager, National NAGPRA Program.

[FR Doc. 2024-00133 Filed 1-5-24; 8:45 am]

BILLING CODE 4312-52-P